DEPARTMENT OF TRANSPORTATION

Federal Aviation Administration

14 CFR Part 39

[Docket No. FAA-2025-0196; Project Identifier AD-2024-00250-T; Amendment 39-23157; AD 2025-20-04]

RIN 2120-AA64

Airworthiness Directives; The Boeing Company Airplanes

AGENCY: Federal Aviation Administration (FAA), DOT.

ACTION: Final rule.

SUMMARY: The FAA is superseding Airworthiness Directive (AD) 2019-12-13, which applied to all The Boeing Company Model 757 airplanes. AD 2019-12-13 required repetitive checks of the aileron trim actuator bearing for free rotation, repetitive detailed inspections of the aileron trim actuator attachment lug for damage and cracking, and applicable on-condition actions. This AD was prompted by the determination that a modification must be done to address the unsafe condition. This AD retains the actions in AD 2019-12-13. This AD also requires for certain airplanes changing the lateral control box support assembly and installing an aileron trim actuator bracket, and for certain other airplanes replacing the existing actuator lateral control fitting with an aileron trim actuator bracket, which terminates the repetitive checks and inspections. The FAA is issuing this AD to address the unsafe condition on these products.

DATES: This AD is effective November 6, 2025.

The Director of the Federal Register approved the incorporation by reference of certain publications listed in this AD as of November 6, 2025.

The Director of the Federal Register approved the incorporation by reference of a certain other publication listed in this AD as of July 12, 2019 (84 FR 30577, June 27, 2019).

ADDRESSES:

AD Docket: You may examine the AD docket at regulations.gov under Docket No. FAA-2025-0196; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For the Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-0196.

FOR FURTHER INFORMATION CONTACT: Katherine Venegas, Aviation Safety Engineer, FAA, 2200 South 216th St., Des Moines, WA 98198; phone: 562-627-5353; email: katherine.venegas@faa.gov.

SUPPLEMENTARY INFORMATION:

Background

The FAA issued a notice of proposed rulemaking (NPRM) to amend 14 CFR part 39 to supersede AD 2019-12-13, Amendment 39-19668 (84 FR 30577, June 27, 2019) (AD 2019-12-13). AD 2019-12-13 applied to all The Boeing Company Model 757 airplanes. The NPRM was published in the Federal Register on February 12, 2025 (90 FR 9403). The NPRM was prompted by the determination that a modification must be done to address the unsafe condition. In the NPRM, the FAA proposed to continue to require the actions in AD 2019-12-13. The NPRM also proposed to require for certain airplanes a change to the lateral control box support assembly and installation of an aileron trim actuator bracket, and for certain other airplanes replacement of the existing actuator lateral control fitting with an aileron trim actuator bracket, which terminates the repetitive checks and inspections. The FAA is issuing this AD to address failure of the aileron trim actuator attachment lug and subsequent loss of feel force, wheel centering, and lateral trim. The unsafe condition, if not corrected, could cause over-control of the airplane and subsequent lateral pilot-induced oscillations that could adversely affect continued safe flight and landing.

Discussion of Final Airworthiness Directive

Comments

The FAA received comments from Air Line Pilots Association, International (ALPA), Aviation Partners Boeing, Boeing, United Airlines, and one individual who supported the NPRM without change.

The FAA received additional comments from two commenters, including Delta Air Lines (Delta) and two individuals. One of the comments was outside the scope of this AD. The following presents the relevant comments received on the NPRM and the FAA's response to each comment.

Effect of Winglets on Accomplishment of the Proposed Actions

Aviation Partners Boeing stated that the installation of winglets per Supplemental Type Certificate (STC) ST01518SE does not affect compliance with the proposed AD.

The FAA agrees with the commenter that STC ST01518SE does not affect the accomplishment of the manufacturer's service instructions. Therefore, the installation of STC ST01518SE does not affect the ability to accomplish the actions required by this AD. The FAA has not changed this AD in this regard.

Request To Change Compliance Time

An individual requested that the FAA change the compliance time for the modification to a phased approach, such as a 24- to 36-month compliance window, to allow operators to accomplish fleet modifications efficiently without disrupting flight operations. The commenter stated that, given the scale of this modification across the Boeing Model 757 fleet, implementing the modifications during scheduled heavy maintenance checks would minimize airplane downtime and supply chain constraints. The commenter also stated that rushing to implement the modifications could lead to parts shortages, maintenance upholds, and operational disruptions. The commenter concluded that a risk-based prioritization approach could ensure higher-risk airplanes are addressed first while maintaining operational stability, and that a flexible timeline will help achieve the intended safety improvements effectively.

The FAA disagrees with changing the compliance time. In developing an appropriate compliance time for this AD, the FAA considered the recommendations of the manufacturer, the urgency associated with the subject unsafe condition, the availability of required parts, and the practical aspect of accomplishing the required modification within a period of time that corresponds to the normal scheduled maintenance for most affected operators. In consideration of these items, the FAA has determined that compliance time of within 10,000 flight hours or 30 months from the effective date of the AD, whichever occurs first, will ensure an acceptable level of safety. However, under the provisions of paragraph (k) of this AD, the FAA will consider requests for approval of an extension of the compliance time if sufficient data are submitted to substantiate that the new compliance time would provide an acceptable level of safety. The FAA also clarifies that operators are allowed to implement the modification at any time within the compliance period during their normal scheduled maintenance. The FAA has not changed the AD in this regard.

Request To Add Note to Paragraph (i) of Proposed AD

Delta requested that the FAA add a note to paragraph (i) of the proposed AD that refers operators to Boeing Alert Requirements Bulletin 757-27A0160 RB, dated April 1, 2024, as a global acceptable method of compliance (AMOC) to the requirement in paragraph (h) of the proposed AD. Paragraph (h) proposed to require doing the repair using a method approved in accordance with the procedures specified in the AMOC paragraph of the proposed AD instead of contacting Boeing for repair instructions, as specified in Boeing Alert Requirements Bulletin 757-27A0159 RB, dated March 29, 2019, and Revision 1, dated April 29, 2020. The commenter stated that every operator that has not requested Boeing Alert Requirements Bulletin 757-27A0160 RB as an AMOC to paragraph (h) of the proposed AD would each have to submit an AMOC request to use that service bulletin in lieu of repair instructions. Delta stated that identifying Boeing Alert Requirements Bulletin 757-27A0160 RB as an AMOC in the proposed AD would reduce strain on operators and the FAA in processing AMOC requests.

The FAA disagrees with the request. An AMOC to the inspections required by paragraph (g) of this AD, along with the exception in paragraph (h) of this AD, is not necessary if the operator performs the modification in paragraph (i) of this AD. As stated in paragraph (i) of this AD, doing the modification required by this paragraph terminates the inspections required by paragraph (g) of this AD. The FAA has not changed the AD in this regard.

Request To Fix Typographical Errors in Service Information

Delta requested that the FAA address typographical errors in Boeing Service Bulletin 757-27A0160, dated April 1, 2024. Delta stated that under step 2 of “Part 2: Feel and Trim Mechanism Assembly and Aileron Trim Actuator Installation,” the second substep should be renumbered from “a.” to “b.” and the text of that substep should be changed from “Install kept the . . .” to “Install the kept . . . .” Delta also stated that substep 3.a. of “Part 3: Restoration,” should be changed from “Restore electrical power from the airplane,” to “Restore electrical power to the airplane.” Delta recognized that these errors are in steps that are not required for compliance but asserted that the information is relevant to completing the modification and the errors do not properly convey the intent of the sentence.

The FAA agrees with the corrections that Delta has identified but no change to this AD is necessary. The FAA reviewed the service information and confirmed the typographical errors occur in steps that are not required for compliance.

Conclusion

The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed Boeing Alert Requirements Bulletin 757-27A0159 RB, Revision 1, dated April 29, 2020. This material specifies procedures for repetitive checks of the aileron trim actuator bearing for free rotation, repetitive detailed inspections of the aileron trim actuator attachment lug for damage or cracking, and applicable on-condition actions. On-condition actions include high frequency eddy current (HFEC) inspections of the aileron trim actuator attachment lug for cracking, repair, and replacement. This revision only adds references to AD 2019-12-13 and does not add any new actions.

The FAA also reviewed Boeing Alert Requirements Bulletin 757-27A0160 RB, dated April 1, 2024. This material specifies procedures for modifying the affected airplanes, which includes for certain airplanes changing the lateral control box support assembly (which includes doing a portable method C penetrant inspection of the machined surface of the lug for any crack and repair as applicable) and installing an aileron trim actuator bracket, and for certain other airplanes replacing the existing actuator lateral control fitting with an aileron trim actuator bracket. Accomplishment of the modification terminates the repetitive checks and inspections specified in Boeing Alert Requirements Bulletin 757-27A0159 RB.

This AD also requires Boeing Alert Requirements Bulletin 757-27A0159 RB, dated March 29, 2019, which the Director of the Federal Register approved for incorporation by reference as of July 12, 2019 (84 FR 30577, June 27, 2019).

This material is reasonably available because the interested parties have access to it through their normal course of business or by the means identified in the ADDRESSES section.

Costs of Compliance

The FAA estimates that this AD affects 460 airplanes of U.S. registry. The FAA estimates the following costs to comply with this AD:

Estimated Costs
Action | Labor cost | Parts cost | Cost per product | Cost on U.S. operators
Repetitive inspections (retained actions from AD 2019-12-13) | 3 work-hours × $85 per hour = $255 per inspection cycle | $0 | $255 per inspection cycle | $117,300 per inspection cycle.
Install aileron trim actuator bracket (new required action) | 6 work-hours × $85 per hour = $510 | 3,820 | $4,330 | $1,991,800.
Change the lateral control box assembly for Groups 1, 4, and 5 (new required action) | 2 work-hours × $85 per hour = $170 | 0 | $170 | $69,020.*
* The number of airplanes in Groups 1, 4, and 5, as identified in Boeing Alert Requirements Bulletin 757-27A0160 RB, dated April 1, 2024, is estimated to be 406.

The FAA estimates the following costs to do any necessary on-condition actions that would be required based on the results of the inspection. The agency has no way of determining the number of aircraft that might need these on-condition actions:

On-Condition Costs
Action | Labor cost | Parts cost | Cost per product
Replacement (retained actions from AD 2019-12-13) | 4 work-hours × $85 per hour = $340 | $17,693 | $18,033
HFEC inspection (retained actions from AD 2019-12-13) | 1 work-hour × $85 per hour = $85 | 0 | 85

The FAA has received no definitive data on which to base the cost estimates for the on-condition repair specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-12-13, Amendment 39-19668 (84 FR 30577, June 27, 2019); and

b. Adding the following new AD:

2025-20-04 The Boeing Company: Amendment 39-23157; Docket No. FAA-2025-0196; Project Identifier AD-2024-00250-T.

(a) Effective Date

This airworthiness directive (AD) is effective November 6, 2025.

(b) Affected ADs

This AD replaces AD 2019-12-13, Amendment 39-19668 (84 FR 30577, June 27, 2019) (AD 2019-12-13).

(c) Applicability

This AD applies to all The Boeing Company Model 757-200, -200CB, -200PF, and -300 series airplanes, certificated in any category.

(d) Subject

Air Transport Association (ATA) of America Code 27, Flight controls.

(e) Unsafe Condition

This AD was prompted by a report of the failure of the aileron trim actuator attachment lug. The FAA is issuing this AD to address failure of the aileron trim actuator attachment lug and subsequent loss of feel force, wheel centering, and lateral trim. The unsafe condition, if not corrected, could cause over-control of the airplane and subsequent lateral pilot-induced oscillations, which could adversely affect continued safe flight and landing.

(f) Compliance

Comply with this AD within the compliance times specified, unless already done.

(g) Retained Required Actions, With Revised Service Information

This paragraph restates the requirements of paragraph (g) of AD 2019-12-13, with revised service information. Except as specified by paragraph (h) of this AD: At the applicable times specified in the “Compliance” paragraph of Boeing Alert Requirements Bulletin 757-27A0159 RB, Revision 1, dated April 29, 2020, do all applicable actions identified in, and in accordance with, the Accomplishment Instructions of Boeing Alert Requirements Bulletin 757-27A0159 RB, dated March 29, 2019, or Boeing Alert Requirements Bulletin 757-27A0159 RB, Revision 1, dated April 29, 2020. As of the effective date of this AD, only use Boeing Alert Requirements Bulletin 757-27A0159 RB, Revision 1, dated April 29, 2020, for the actions required by this paragraph.

Note 1 to paragraph (g): Guidance for accomplishing the actions required by this AD can be found in Boeing Alert Service Bulletin 757-27A0159, dated March 29, 2019, which is referred to in Boeing Alert Requirements Bulletin 757-27A0159 RB, dated March 29, 2019.

Note 2 to paragraph (g): Guidance for accomplishing the actions required by this AD can also be found in Boeing Alert Service Bulletin 757-27A0159, Revision 1, dated April 29, 2020, which is referred to in Boeing Alert Requirements Bulletin 757-27A0159 RB, Revision 1, dated April 29, 2020.

(h) Retained Exception, With Revised Service Information

This paragraph restates the requirements of paragraph (h)(2) of AD 2019-12-13, with revised service information. Where Boeing Alert Requirements Bulletin 757-27A0159 RB, dated March 29, 2019, and Boeing Alert Requirements Bulletin 757-27A0159 RB, Revision 1, dated April 29, 2020, specify contacting Boeing for repair instructions: This AD requires doing the repair using a method approved in accordance with the procedures specified in paragraph (k) of this AD.

(i) New Required Actions

Except as specified by paragraph (j) of this AD: At the applicable times specified in the “Compliance” paragraph of Boeing Alert Requirements Bulletin 757-27A0160 RB, dated April 1, 2024, do all applicable actions identified in, and in accordance with, the Accomplishment Instructions of Boeing Alert Requirements Bulletin 757-27A0160 RB, dated April 1, 2024. Doing the modification required in this paragraph terminates the inspections required by paragraph (g) of this AD.

Note 3 to paragraph (i): Guidance for accomplishing the actions required by this AD can be found in Boeing Alert Service Bulletin 757-27A0160, dated April 1, 2024, which is referred to in Boeing Alert Requirements Bulletin 757-27A0160 RB, dated April 1, 2024.

(j) Exceptions to Requirements Bulletin Specifications

(1) Where the Compliance Time columns of the tables in the “Compliance” paragraph of Boeing Alert Requirements Bulletin 757-27A0160 RB, dated April 1, 2024, refer to the original issue date of Requirements Bulletin 757-27A0160 RB, this AD requires using the effective date of this AD.

(2) Where Boeing Alert Requirements Bulletin 757-27A0160 RB, dated April 1, 2024, specifies contacting Boeing for repair instructions: This AD requires doing the repair using a method approved in accordance with the procedures specified in paragraph (k) of this AD.

(k) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l)(1) of this AD. Information may be emailed to: AMOC@faa.gov. Before using any approved AMOC, notify your appropriate principal inspector, or lacking a principal inspector, the manager of the responsible Flight Standards Office.

(2) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(3) AMOCs approved for AD 2019-12-13 are approved as AMOCs for the corresponding provisions of paragraph (g) of this AD.

(l) Related Information

(1) For more information about this AD, contact Katherine Venegas, Aviation Safety Engineer, FAA, 2200 South 216th St., Des Moines, WA 98198; phone: 562-627-5353; email: katherine.venegas@faa.gov.

(2) Material identified in this AD that is not incorporated by reference is available at the address specified in paragraph (m)(5) of this AD.

(m) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on November 6, 2025.

(i) Boeing Alert Requirements Bulletin 757-27A0159 RB, Revision 1, dated April 29, 2020.

(ii) Boeing Alert Requirements Bulletin 757-27A0160 RB, dated April 1, 2024.

(4) The following material was approved for IBR on July 12, 2019 (84 FR 30577, June 27, 2019).

(i) Boeing Alert Requirements Bulletin 757-27A0159 RB, dated March 29, 2019.

(ii) [Reserved]

(5) For the Boeing material identified in this AD, contact Boeing Commercial Airplanes, Attention: Contractual & Data Services (C&DS), 2600 Westminster Blvd., MC 110-SK57, Seal Beach, CA 90740-5600; telephone 562-797-1717; website myboeingfleet.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on September 26, 2025.
Peter A. White,
Deputy Director, Integrated Certificate Management Division, Aircraft Certification Service.

[FR Doc. 2025-19394 Filed 10-1-25; 8:45 am]

BILLING CODE 4910-13-P